NUCLEAR REGULATORY COMMISSION

[Docket Nos. 50-334, 50-412, 50-483, 50-413, 50-414, 50-346, 50-331, 50-341, 50-348, 50-364, 50-416, 50-354, 50-272, 50-311, 50-245, 50-336, 50-423, 50-528, 50-529, 50-530, 50-440, 50-171, 50-277, 50-278, 72-29, 50-282, 50-306, 50-254, 50-265, 50-458, 50-327, 50-328, 50-387, 50-388; NRC-2020-0110]

Issuance of Multiple Exemptions in Response to COVID-19 Public Health Emergency

AGENCY: Nuclear Regulatory Commission.

ACTION: Exemptions; issuance.

SUMMARY: The U.S. Nuclear Regulatory Commission (NRC) issued 20 exemptions in response to requests from 14 licensees. The exemptions afford these licensees temporary or permanent relief from certain requirements under NRC regulations. The exemptions are in response to the licensees' requests for relief due to the coronavirus disease 2019 (COVID-19) public health emergency (PHE). The NRC is issuing a single notice to announce the issuance of the exemptions.

DATES: During the period from November 2, 2020, to November 25, 2020, the NRC granted 20 exemptions in response to requests submitted by licensees from September 17, 2020, to November 20, 2020.

ADDRESSES: Please refer to Docket ID NRC-2020-0110 when contacting the NRC about the availability of information regarding this document. You may obtain publicly available information related to this document using any of the following methods:

• Federal Rulemaking website: Go to https://www.regulations.gov and search for Docket ID NRC-2020-0110. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 between 8:00 a.m. and 4:00 p.m. (EST), Monday through Friday, except Federal holidays.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

During the period from November 2, 2020, to November 25, 2020, the NRC granted 20 exemptions in response to requests submitted by licensees from September 17, 2020, to November 20, 2020. These exemptions temporarily allow the licensees to deviate from certain requirements (as cited below) of various parts of chapter I of title 10 of the Code of Federal Regulations (10 CFR).

The exemptions from certain requirements of 10 CFR part 26, “Fitness for Duty Programs,” for Energy Harbor Nuclear Corp. (for Beaver Valley Power Station, Units 1 and 2; Davis-Besse Nuclear Power Station, Unit No. 1; and Perry Nuclear Power Plant, Unit No. 1); Union Electric Company (for Callaway Plant, Unit No. 1); DTE Electric Company (for Fermi-2); and Arizona Public Service Company (for Palo Verde Nuclear Generating Station, Units 1, 2, and 3), afford these licensees temporary relief from the work-hour controls under 10 CFR 26.205(d)(1) through (d)(7). The exemptions from 10 CFR 26.205(d)(1) through (d)(7) ensure that the control of work hours and management of worker fatigue do not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour controls of 10 CFR 26.205(d)(1) through (d)(7). These licensees have committed to effecting site-specific administrative controls for COVID-19 PHE fatigue management for personnel specified in 10 CFR 26.4(a).

The exemptions from certain requirements of 10 CFR part 50, appendix E, “Emergency Planning and Preparedness for Production and Utilization Facilities,” section IV.F., “Training,” for Energy Harbor Nuclear Corp. (for Beaver Valley Power Station, Units 1 and 2); NextEra Energy Duane Arnold, LLC (for Duane Arnold Energy Center); Southern Nuclear Operating Company (for Joseph M. Farley Nuclear Plant, Units 1 and 2); Dominion Energy Nuclear Connecticut, Inc. (for Millstone Power Station, Unit Nos. 1, 2, and 3); Northern States Power Company (for Prairie Island Nuclear Generating Plant, Units 1 and 2); Exelon Generation Company, LLC (for Peach Bottom Atomic Power Station, Units 1, 2, and 3; and Quad Cities Nuclear Power Station, Units 1 and 2); Entergy Operations, Inc. (for River Bend Station, Unit 1); Tennessee Valley Authority (for Sequoyah Nuclear Plant, Units 1 and 2); and Susquehanna Nuclear, LLC (for Susquehanna Steam Electric Station, Units 1 and 2), grant temporary exemptions from the biennial emergency preparedness exercise requirement. The exemptions allow a temporary exemption from the requirements of 10 CFR part 50, appendix E, regarding the conduct of the biennial emergency preparedness exercise. These exemptions will not adversely affect the emergency response capability of the facilities because affected licensee personnel are currently qualified, and the licensees' proposed compensatory measures will enable their staff to maintain their knowledge, skills, and abilities without the conduct of the biennial emergency preparedness exercise during the exemption term.

The exemptions from certain requirements of 10 CFR part 73, appendix B, “General Criteria for Security Personnel,” section VI, “Nuclear Power Reactor Training and Qualification Plan for Personnel Performing Security Program Duties,” for Duke Energy Carolinas, LLC (for Catawba Nuclear Station, Units 1 and 2); Entergy Operations, Inc. (for Grand Gulf Nuclear Station, Unit 1); and PSEG Nuclear LLC (for Hope Creek Generating Station and Salem Nuclear Generating Station, Unit Nos. 1 and 2), will help to ensure that these regulatory requirements do not unduly limit licensee flexibility in using personnel resources in a manner that most effectively manages the impacts of the COVID-19 PHE on maintaining the safe and secure operation of these facilities and the implementation of the licensees' NRC approved security plans, protective strategy, and implementing procedures. These licensees have committed to certain security measures to ensure response readiness and for their security personnel to maintain performance capability.

The NRC is providing compiled tables of exemptions using a single Federal Register notice for COVID-19 related exemptions instead of issuing individual Federal Register notices for each exemption. The compiled tables below provide transparency regarding the number and type of exemptions the NRC has issued. Additionally, the NRC publishes tables of approved regulatory actions related to the COVID-19 PHE on its public website at https://www.nrc.gov/about-nrc/covid-19/reactors/licensing-actions.html.

II. Availability of Documents

The tables below provide the facility name, docket number, document description, and ADAMS accession number for each exemption issued. Additional details on each exemption issued, including the exemption request submitted by the respective licensee and the NRC's decision, are provided in each exemption approval listed in the tables below. For additional directions on accessing information in ADAMS, see the ADDRESSES section of this document.

Document description | ADAMS accession No.
Beaver Valley Power Station, Units 1 and 2
Docket Nos. 50-334 and 50-412
Beaver Valley Power Station, Units 1 and 2—COVID-19 Related Request for Exemption from part 26 Work Hours Requirements, dated November 20, 2020 | ML20328A006.
Beaver Valley Power Station, Units 1 and 2—Exemption from Select Requirements of 10 CFR part 26 (EPID L-2020-LLE-0211 [COVID-19]), dated November 23, 2020 | ML20326A000.
Beaver Valley Power Station, Units 1 and 2
Docket Nos. 50-334 and 50-412
Beaver Valley Power Station, Units 1 and 2—Request for One-Time Exemption from 10 CFR part 50, appendix E, “Biennial Emergency Preparedness Exercise Requirements,” due to COVID-19 Pandemic, dated September 22, 2020 | ML20266G336.
Submittal of Pennsylvania Letter Requesting Exemption from Biennial Exercise Requirements for Pennsylvania Nuclear Power Plants in Calendar Year 2020, dated October 9, 2020 | ML20283A772.
Beaver Valley Power Station, Units 1 and 2—Temporary Exemption from Biennial Emergency Preparedness Exercise Frequency Requirements of 10 CFR part 50, appendix E, section IV (EPID L-2020-LLE-0149), dated November 6, 2020 | ML20288A640.
Callaway Plant, Unit No. 1
Docket No. 50-483
Callaway Plant, Unit No. 1—Request for Exemption from Specific Requirements of 10 CFR part 26, “Fitness for Duty Programs,” dated November 5, 2020 | ML20310A333.
Callaway Plant, Unit No. 1—Exemption from Select Requirements of 10 CFR part 26 (EPID L-2020-LLE-0181 [COVID-19]), dated November 17, 2020 | ML20317A153.
Catawba Nuclear Station, Units 1 and 2
Docket Nos. 50-413 and 50-414
Catawba Nuclear Station, Units 1 and 2—Response to “U.S. Nuclear Regulatory Commission Planned Actions Related to the Requirements for 10 CFR part 73, appendix B, section VI During the Coronavirus Disease 2019 Public Health Emergency,” dated October 5, 2020 | non-public, withheld pursuant to 10 CFR 2.390.
Catawba Nuclear Station, Units 1 and 2—Supplement to Request for Temporary Exemption from 10 CFR part 73, appendix B, VI.C.3.(I)(1), Force-on-Force Annual Exercises, dated October 22, 2020 | non-public, withheld pursuant to 10 CFR 2.390.
Catawba Nuclear Station, Units 1 and 2—Temporary Exemption from Certain Requirements of 10 CFR part 73, appendix B, “General Criteria for Security Personnel,” section VI, dated November 2, 2020 | ML20300A312.
Davis-Besse Nuclear Power Station, Unit No. 1
Docket No. 50-346
Davis-Besse Nuclear Power Station, Unit No. 1—COVID-19 Related Request for Exemption from part 26 Work Hours Requirement, dated November 18, 2020 | ML20323A169.
Davis-Besse Nuclear Power Station, Unit No. 1—Exemption from Select Requirements of 10 CFR part 26 (EPID L-2020-LLE-0208 [COVID-19]), dated November 19, 2020 | ML20323A412.
Duane Arnold Energy Center
Docket No. 50-331
Duane Arnold—Request for One-Time Exemption from 10 CFR part 50, appendix E, “Biennial Emergency Preparedness Evaluated Exercise Requirements,” due to COVID-19 Pandemic, dated September 22, 2020 | ML20266G292.
Duane Arnold Energy Center—Temporary Exemption from Requirements of 10 CFR part 50, appendix E, sections IV.F.2.B and IV.F.2.C (EPID L-2020-LLE-0150 [COVID-19]), dated November 25, 2020 | ML20301A846.
Fermi-2
Docket No. 50-341
Fermi-2—Work Hour Limits Exemption Request due to COVID-19, dated November 10, 2020 | ML20315A373.
Fermi-2—Exemption from Select Requirements of 10 CFR part 26 (EPID L-2020-LLE-0187 [COVID-19]), dated November 18, 2020 | ML20317A272.
Joseph M. Farley Nuclear Plant, Units 1 and 2
Docket Nos. 50-348 and 50-364
Joseph M. Farley Nuclear Plant, Units 1 and 2—Request for One-Time Exemption from 10 CFR part 50, appendix E, “Biennial Emergency Preparedness Exercise Requirements,” due to COVID-19 Pandemic, dated September 21, 2020 | ML20265A353.
Joseph M. Farley Nuclear Plant, Units 1 and 2—Temporary Exemption from Requirements of 10 CFR part 50, appendix E, sections IV.F.2.B and IV.F.2.C (EPID L-2020-LLE-0148 [COVID-19]), dated November 10, 2020 | ML20295A502.
Grand Gulf Nuclear Station, Unit 1
Docket No. 50-416
Grand Gulf Nuclear Station, Unit 1—Request for a One-Time Exemption from 10 CFR part 73, appendix B, section VI, subsection C.3.(I)(1) Regarding Annual Force-on-Force (FOF) Exercises, due to COVID 19 Pandemic, dated November 13, 2020 | ML20318A386.
Grand Gulf Nuclear Station, Unit 1—Exemption from Annual Force-On-Force Exercise Requirements of 10 CFR part 73, appendix B, “General Criteria for Security Personnel,” subsection VI.C.3(I)(1) (EPID L-2020-LLE-0196 [COVID-19]), dated November 24, 2020 | ML20323A047.
Hope Creek Generating Station
Docket No. 50-354
Salem Nuclear Generating Station, Unit Nos. 1 and 2
Docket Nos. 50-272 and 50-311
Salem Generating Station, Unit Nos. 1 and 2, and Hope Creek Generating Station—Request for a One-Time Exemption from 10 CFR part 73, appendix B, section VI, subsection C.3.(I)(1), Regarding Annual Force-on-Force (FOF) Exercises, due to COVID-19 Pandemic, dated October 26, 2020 | ML20300A588.
Hope Creek Generating Station and Salem Nuclear Generating Station, Unit Nos. 1 and 2—One-Time Exemption from Certain Requirements of 10 CFR part 73, appendix B, “General Criteria for Security Personnel,” section VI (EPID L-2020-LLE-0168 [COVID-19]), dated November 20, 2020 | ML20309A887.
Millstone Power Station, Unit Nos. 1, 2, and 3
Docket Nos. 50-245, 50-336, and 50-423
Millstone Power Station Unit Nos. 1, 2, and 3—Request for Exemption from Biennial Emergency Preparedness Exercise Requirements in 10 CFR part 50, appendix E, sections IV.F.2.b and IV.F.2.c, dated September 17, 2020 | ML20261H597.
Millstone Power Station, Unit Nos. 1, 2, and 3—Temporary Exemption from Exercise Frequency Requirements of 10 CFR part 50, appendix E, sections IV.F.2.B and IV.F.2.C (EPID L-2020-LLE-0145 [COVID-19]), dated November 24, 2020 | ML20287A273.
Palo Verde Nuclear Generating Station, Units 1, 2, and 3
Docket Nos. 50-528, 50-529, and 50-530
Palo Verde Nuclear Generating Station, Units 1, 2, and 3, and Independent Spent Fuel Storage Installation—Request for Exemption from Specific Requirements of 10 CFR part 26, “Fitness for Duty Programs,” dated October 28, 2020 | ML20302A417.
Palo Verde Nuclear Generating Station, Units 1, 2, and 3—Exemption from Select Requirements of 10 CFR part 26 (EPID L-2020-LLE-0170 [COVID-19]), dated November 2, 2020 | ML20303A015.
Perry Nuclear Power Plant, Unit No. 1
Docket No. 50-440
Perry Nuclear Power Plant, Unit No. 1—COVID-19 Related Request for Exemption from 10 CFR part 26 Work Hours Requirements, dated November 20, 2020 | ML20325A070.
Perry Nuclear Power Plant, Unit No. 1—Exemption from Select Requirements of 10 CFR part 26 (EPID L-2020-LLE-0209 [COVID-19]), dated November 23, 2020 | ML20325A158.
Peach Bottom Atomic Power Station, Units 1, 2, and 3
Docket Nos. 50-171, 50-277, 50-278, and 72-29
Peach Bottom Atomic Power Station, Units 1, 2, and 3—Request for One-Time Exemption from the Biennial Emergency Preparedness Exercise Requirements in 10 CFR part 50, appendix E, section IV.F.2.c, due to COVID-19 Public Health Emergency, dated September 25, 2020 | ML20269A267.
Submittal of Pennsylvania Letter Requesting Exemption from Biennial Exercise Requirements for Pennsylvania Nuclear Power Plants in Calendar Year 2020, dated October 9, 2020 | ML20283A772.
Peach Bottom Atomic Power Station, Independent Spent Fuel Storage Installation and Units 1, 2, and 3—Temporary Exemption from Biennial Emergency Preparedness Exercise Frequency Requirements of 10 CFR part 50, appendix E, section IV.F (EPID L-2020-LLE-0151 [COVID-19]), dated November 6, 2020 | ML20288A718.
Prairie Island Nuclear Generating Plant, Units 1 and 2
Docket No. 50-282 and 50-306
Prairie Island Nuclear Generating Plant, Units 1 and 2—Request for a One-Time Exemption from 10 CFR part 50, appendix E, “Biennial Emergency Preparedness Exercise Requirements,” due to COVID-19 Pandemic, dated October 7, 2020 | ML20281A665.
Prairie Island Nuclear Generating Plant, Units 1 and 2—Temporary Exemption Requirements of 10 CFR part 50, appendix E, sections IV.F.2.B and IV.F.2.C (EPID L-2020-LLE-0162 [COVID-19]), dated November 9, 2020 | ML20297A239.
Quad Cities Nuclear Power Station, Units 1 and 2
Docket Nos. 50-254 and 50-265
Quad Cities Nuclear Power Station, Units 1 and 2—Renewed Facility Operating License Nos. DPR-29 and DPR-30, dated September 24, 2020 | ML20269A392.
Quad Cities Nuclear Power Station, Units 1 and 2—Temporary Exemption from Requirements of 10 CFR part 50, appendix E, section IV.F.2.C (EPID L-2020-LLE-0152), dated November 12, 2020 | ML20288A142.
River Bend Station, Unit 1
Docket No. 50-458
River Bend Station, Unit 1—Request for One-Time Exemption from 10 CFR part 50, appendix E, “Biennial Emergency Preparedness Evaluated Offsite Exercise Requirements,” due to COVID 19 Pandemic, dated October 6, 2020 | ML20280A734.
River Bend Station, Unit 1—Temporary Exemption from Biennial Emergency Preparedness Exercise Frequency Requirements of 10 CFR part 50, appendix E, section IV.F.2.c (EPID L-2020-LLE-0163 [COVID-19]), dated November 25, 2020 | ML20315A345.
Sequoyah Nuclear Plant, Units 1 and 2
Docket Nos. 50-327 and 50-328
Sequoyah Nuclear Plant, Units 1 and 2—Request for One-Time Exemption from 10 CFR part 50, appendix E, “Biennial Emergency Preparedness Evaluated Exercise Requirements due to COVID-19 Pandemic,” dated September 30, 2020 | ML20274A362.
Sequoyah Nuclear Plant, Units 1 and 2—Temporary Exemption from Exercise Frequency Requirements of 10 CFR part 50, appendix E, “Emergency Planning and Preparedness for Production and Utilization Facilities,” section IV.F (EPID L-2020-LLE-0157 [COVID-19]), dated November 10, 2020 | ML20288A546.
Susquehanna Steam Electric Station, Units 1 and 2
Docket Nos. 50-387 and 50-388
Susquehanna Steam Electric Station, Units 1 and 2—Request for One-Time Exemption from 10 CFR part 50, appendix E, “Biennial Emergency Preparedness Exercise Requirements,” due to COVID-19 Pandemic (PLA-7893), dated September 28, 2020 | ML20272A020.
Submittal of Pennsylvania Letter Requesting Exemption from Biennial Exercise Requirements for Pennsylvania Nuclear Power Plants in Calendar Year 2020, dated October 9, 2020 | ML20283A772.
Susquehanna Steam Electric Station, Units 1 and 2—Temporary Exemption from Biennial Emergency Preparedness Exercise Frequency Requirements of 10 CFR part 50, appendix E, section IV.F (EPID L-2020-LLE-0153 [COVID-19]), dated November 6, 2020 | ML20294A291.

Dated: December 21, 2020.
For the Nuclear Regulatory Commission.
James G. Danna,
Chief, Plant Licensing Branch I, Division of Operating Reactor Licensing, Office of Nuclear Reactor Regulation.

[FR Doc. 2020-28588 Filed 12-23-20; 8:45 am]

BILLING CODE 7590-01-P